DEPARTMENT OF HOMELAND SECURITY

Federal Emergency Management Agency

[Docket ID FEMA-2010-0059]

Agency Information Collection Activities: Proposed Collection; Comment Request, OMB No. 1660-0004; Application for Participation in the National Flood Insurance Program (NFIP)

AGENCY: Federal Emergency Management Agency, DHS.

ACTION: Notice; 60-day notice and request for comments; revision of a currently approved information collection; OMB No. 1660-0004; FEMA Form 086-0-30 (currently FEMA Form 81-64), Application for Participation in the National Flood Insurance Program.

SUMMARY: The Federal Emergency Management Agency, as part of its continuing effort to reduce paperwork and respondent burden, invites the general public and other Federal agencies to take this opportunity to comment on a proposed revision of a currently approved information collection. In accordance with the Paperwork Reduction Act of 1995, this Notice seeks comments concerning the collection of information necessary to allow communities to apply for participation in the National Flood Insurance Program (NFIP).

DATES: Comments must be submitted on or before January 24, 2011.

ADDRESSES: To avoid duplicate submissions to the docket, please use only one of the following means to submit comments:

(1) Online. Submit comments at http://www.regulations.gov under Docket ID FEMA-2010-0059. Follow the instructions for submitting comments.

(2) Mail. Submit written comments to Docket Manager, Office of Chief Counsel, DHS/FEMA, 500 C Street, SW., Room 835, Washington, DC 20472-3100.

(3) Facsimile. Submit comments to (703) 483-2999.

(4) E-mail. Submit comments to FEMA-POLICY@dhs.gov. Include Docket ID FEMA-2010-0059 in the subject line.

All submissions received must include the agency name and Docket ID. Regardless of the method used for submitting comments or material, all submissions will be posted, without change, to the Federal eRulemaking Portal at http://www.regulations.gov, and will include any personal information you provide. Therefore, submitting this information makes it public. You may wish to read the Privacy Act notice that is available via the link in the footer of http://www.regulations.gov.

FOR FURTHER INFORMATION CONTACT: Patricia Suber, FEMA Risk Insurance Division, at (202) 646-4149. You may contact the Records Management Division for copies of the proposed collection of information at facsimile number (202) 646-3347 or e-mail address: FEMA-Information-Collections-Management@dhs.gov.

SUPPLEMENTARY INFORMATION: The National Flood Insurance Program (NFIP) codified at 42 U.S.C. 4001, et seq., is authorized by Public Law 90-448 (1968) and expanded by Public Law 93-234 (1973). Section 201 of the Flood Disaster Protection Act of 1973 requires all flood prone communities throughout the country to apply for participation one year after their flood prone identification or submit to the prohibition of certain types of Federal and federally-related financial assistance for use in their floodplains. Title 44 CFR 59.22 identifies the information required for this application.

Collection of Information

Title: Application for Participation in the National Flood Insurance Program (NFIP).

Type of Information Collection: Revision of a currently approved information collection.

OMB Number: 1660-0004.

Form Titles and Numbers: FEMA Form 086-0-30 (currently FEMA Form 81-64), Application for Participation in the National Flood Insurance Program.

Abstract: The National Flood Insurance Program (NFIP) provides flood insurance to the communities that apply for participation and make a commitment to adopt and enforce land use control measures that are to protect development from future flood damages. The application form will enable FEMA to continue to rapidly process new community applications and to thereby more quickly provide flood insurance protection to the residents in communities.

Affected Public: State, local or Tribal Government.

Estimated Total Annual Burden Hours: 948 hours.

Estimated Annualized Burden Hours and Costs
Type of respondent | Form name/ form No. | Number of respondents | Number of responses per respondent | Total number of responses | Avg. burden per response (in hours) | Total annual burden (in hours) | Avg. hourly wage rate | Total annual respondent cost
State, local or Tribal Government | FEMA Form 086-0-30/Application for Participation in the National Flood Insurance Program and Supporting Documentation | 237 | 1 | 237 | 4 | 948 | $44.74 | $42,414
Total |  | 237 |  | 237 |  | 948 |  | 42,414

Estimated Cost: There is no annual capital, start-up, operations or maintenance cost associated with this collection.

Comments

Comments may be submitted as indicated in the ADDRESSES caption above. Comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses.

Dated: November 16, 2010.
Lesia M. Banks,
Director, Records Management Division, Mission Support Bureau, Federal Emergency Management Agency, Department of Homeland Security.

[FR Doc. 2010-29567 Filed 11-23-10; 8:45 am]

BILLING CODE 9110-12-P